DEPARTMENT OF HEALTH AND HUMAN SERVICES

Health Resources and Services Administration

Notice of availability of Draft Policy Documents for Comment

AGENCY: Health Resources and Services Administration (HRSA), HHS.

ACTION: Notice of availability and solicitation of comments.

SUMMARY: This is a Notice of Availability and request for comments on certain draft policy documents prepared by HRSA's Bureau of Primary Health Care (BPHC). HRSA plans to periodically make some draft policy documents (including draft Program Information Notices (PINs)) available for public comment on the Internet at http://bphc.hrsa.gov. Comments will be reviewed and analyzed, and a summary and general response will be published as soon as possible after the deadline for receipt of comments.

DATES: We must receive comments on or before the due date specified for each document.

ADDRESSES: Addresses to which comments should be sent will be provided on the HRSA Web site along with each draft document.

Background:

HRSA administers the Consolidated Health Center Program, which supports more than 3,700 health care delivery sites, including community health centers, migrant health centers, health care for the homeless centers, and public housing primary care centers. Health centers serve clients that are primarily low income and minorities, and deliver preventive and primary care services to patients regardless of their ability to pay. Charges for health care services are set according to income.

HRSA believes that community input is valuable to the development of policies and policy documents related to the implementation of HRSA programs, including the Consolidated Health Center Program. Therefore, HRSA will periodically, as appropriate, solicit comments on some policies and policy documents via the HRSA Web site. This will provide all interested parties with equal access to the proposed document and an opportunity to comment. In some cases, HRSA may solicit comments on new, proposed policies. In other cases, HRSA may seek comments on documents that represent a written statement of an already-existing policy. In these situations, although the policy is being actively applied during the comment period, the written document may be adjusted after the comments are reviewed and analyzed.

FOR FURTHER INFORMATION CONTACT: For questions regarding the process described above, please contact Shannon Dunne Faltens, Senior Public Health Analyst, Division of Policy and Development, Bureau of Primary Health Care, at sdunne-faltens@hrsa.gov.

SUPPLEMENTARY INFORMATION: Note that HRSA will not publish an individual Federal Register notice for each document made available for public comment. The applicability of this notice to BPHC policy documents expires 2 years from the date of publication of this notice. Within one year after the publication of this notice, HRSA will publish a second notice to ensure that the public remains aware of this process.

Federal Register notices will continue to be published inviting public comment on all information collection activities that fall under the purview of the Paperwork Reduction Act of 1995.

Dated: August 17, 2006.
Elizabeth M. Duke,
Administrator.

[FR Doc. E6-14272 Filed 8-28-06; 8:45 am]

BILLING CODE 4165-15-P